DEPARTMENT OF THE INTERIOR

Bureau of Indian Affairs

Notice of Availability of the Final Environmental Impact Statement for the Teayawa Energy Center, Riverside County, CA

AGENCY: Bureau of Indian Affairs, Interior.

ACTION: Notice.

SUMMARY: This notice advises the public that the Bureau of Indian Affairs (BIA) has filed a Final Environmental Impact Statement (FEIS) for the Teayawa Energy Center, located on the Torres Martinez Indian Reservation in Riverside County, California, with the U.S. Environmental Protection Agency (EPA). The EPA's Notice of Availability for the FEIS appeared in the Federal Register on Friday, September 13, 2002. The FEIS is available for public review. Details on the project and the contents of the FEIS are provided under the SUPPLEMENTARY INFORMATION section.

DATES: Written comments on the FEIS must arrive by October 12, 2002. The Record of Decision will be issued on or after October 15, 2002.

ADDRESSES: You may mail or hand carry written comments to Ronald Jaeger, Regional Director, Pacific Region, Bureau of Indian Affairs, 2800 Cottage Way, Sacramento, California 95825-1846.

Copies of the FEIS have been sent to all agencies and individuals who participated in the scoping process, public hearings, and those who commented on the Draft EIS. To obtain a copy of the FEIS, please write or call William Allan, Environmental Protection Specialist, at the above address, telephone (916) 978-6043. Copies of the FEIS are also available at the Tribal Hall, Torres Martinez Reservation, 66-725 Martinez Road, Thermal, California 92254 and at the City of Mecca Library, 65250 Coahuilla Street, Mecca, California 92254.

FOR FURTHER INFORMATION CONTACT: William Allan, (916) 978-6043.

SUPPLEMENTARY INFORMATION: Calpine Corporation, through an agreement with the Torres Martinez Desert Cahuilla Indians, plans to construct, own, and operate the Teayawa Energy Center (TEC), a 600-megawatt, natural-gas-fired power plant located on a 41.5-acre parcel of Tribal land in Riverside County, California, northeast of the town of Mecca. The parcel is located along 62nd Avenue, east of Johnson Street near the Coachella Canal.

Natural gas would be supplied to the energy center from a Southern California intrastate pipeline. A new gas pipeline approximately 12 miles long will connect TEC to the intrastate gas pipeline system. The preferred natural-gas-line route extends north from the site within an existing utility corridor to an interconnection point on the nearest natural-gas transmission pipeline, located north of the Interstate 10 (I-10) freeway. Roughly 4,000 acre-feet per year of process water for cooling would be supplied to the energy center. The preferred water supply for the project would include a connection to the Coachella branch of the All American Canal (Coachella Canal) for cooling water, and an onsite groundwater well for potable water and backup purposes when canal water is unavailable.

The energy center would use a “zero liquid discharge” system for treatment of process wastewater, including cooling tower blowdown. Cooling water would be cycled approximately 10 to 14 times, depending on water quality, in the cooling tower. Wastewater would be concentrated to a sludge-like consistency and evaporated in onsite ponds. The resulting mineral concentrations that build up in the evaporation ponds would be stored, dried and eventually hauled offsite for disposal at an appropriate landfill. Sanitary waste would be collected in a storage tank and periodically trucked to an offsite treatment plant, or disposed using a septic tank and leachfield, if soil conditions permit.

Electricity produced by the energy center would be transformed up to transmission level voltage in an onsite switchyard that would be interconnected to the double-circuit, 230-kilovolt (kV) transmission lines owned by the Imperial Irrigation District (IID). These existing transmission lines are located immediately east of the proposed site, on the eastern edge of the Coachella Canal. To address potential localized transmission system congestion and reliability concerns, the project would also require construction of a new electrical transmission line segment between the site and an IID substation in the City of Coachella. In addition, re-conductoring and related improvements to approximately 40 miles of existing offsite transmission lines owned by IID and Southern California Edison (SCE) and situated between the Coachella substation and the SCE grid will also be required.

Alternatives to the proposed project that are considered in the FEIS include alternative natural-gas pipeline routes, alternative water supplies, a smaller energy center, and no action.

Areas of environmental concern addressed in the FEIS include land use; geology and soils; water resources; agricultural resources; biological resources; cultural resources; mineral resources; paleontological resources; traffic and transportation; noise; air quality; public health/environmental hazards; public services and utilities; hazardous materials, hazardous waste handling and worker safety; socio-economics/environmental justice; Indian trust assets; and visual resources.

Public Comment Availability

Comments, including names and addresses of respondents, will be available for public review at the mailing address shown in the ADDRESSES section, during regular business hours, 9 a.m. to 4 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses will be made available for public inspection in their entirety.

Authority

This notice is published in accordance with section 1503.1 of the Council on Environmental Quality Regulations (40 CFR, part 1500 through 1508) implementing the procedural requirements of the National Environmental Policy Act of 1969, as amended (42 U.S.C. 4371 et seq.), and the Department of the Interior Manual (516 DM 1-6), and is in the exercise of authority delegated to the Assistant Secretary—Indian Affairs by 209 DM 8.

Dated: September 6, 2002.
Neal A. McCaleb,
Assistant Secretary—Indian Affairs.

[FR Doc. 02-24011 Filed 9-19-02; 8:45 am]

BILLING CODE 4310-W7-P